ENVIRONMENTAL PROTECTION AGENCY

40 CFR Part 52

[EPA-R05-OAR-2013-0046; FRL-9902-91-Region 5]

Approval and Promulgation of Air Quality Implementation Plans; Illinois; Amendments to Vehicle Inspection and Maintenance Program for Illinois

AGENCY: Environmental Protection Agency (EPA).

ACTION: Proposed rule.

SUMMARY: EPA is proposing to approve a state implementation plan (SIP) revision submitted by the Illinois Environmental Protection Agency (IEPA) on November 29, 2012, concerning the state's vehicle inspection and maintenance (I/M) program in the Chicago and Metro-East St. Louis ozone nonattainment areas in Illinois. The revision amends I/M program requirements in the active control measures portion of the ozone SIP to reflect changes that have been implemented at the state level since EPA fully approved the I/M program on February 22, 1999. The submittal also includes a demonstration under section 110(l) of the Clean Air Act (CAA) addressing lost emission reductions associated with the program changes.

DATES: Comments must be received on or before December 16, 2013.

ADDRESSES: Submit your comments, identified by Docket ID No. EPA-R05-OAR-2013-0046, by one of the following methods:

1. www.regulations.gov: Follow the on-line instructions for submitting comments.

2. Email: blakley.pamela@epa.gov.

3. Fax: (312)692-2450.

4. Mail: Pamela Blakley, Chief, Control Strategies Section, Air Programs Branch (AR-18J), U.S. Environmental Protection Agency, 77 West Jackson Boulevard, Chicago, Illinois 60604.

5. Hand Delivery: Pamela Blakley, Chief, Control Strategies Section, Air Programs Branch (AR-18J), U.S. Environmental Protection Agency, 77 West Jackson Boulevard, Chicago, Illinois 60604. Such deliveries are only accepted during the Regional Office normal hours of operation, and special arrangements should be made for deliveries of boxed information. The Regional Office official hours of business are Monday through Friday, 8:30 a.m. to 4:30 p.m., excluding Federal holidays.

Instructions: Direct your comments to Docket ID No. EPA-R05-OAR-2013-0046. EPA's policy is that all comments received will be included in the public docket without change and may be made available online at www.regulations.gov, including any personal information provided, unless the comment includes information claimed to be Confidential Business Information (CBI) or other information whose disclosure is restricted by statute. Do not submit information that you consider to be CBI or otherwise protected through www.regulations.gov or email. The www.regulations.gov Web site is an “anonymous access” system, which means EPA will not know your identity or contact information unless you provide it in the body of your comment. If you send an email comment directly to EPA without going through www.regulations.gov, your email address will be automatically captured and included as part of the comment that is placed in the public docket and made available on the Internet. If you submit an electronic comment, EPA recommends that you include your name and other contact information in the body of your comment and with any disk or CD-ROM you submit. If EPA cannot read your comment due to technical difficulties and cannot contact you for clarification, EPA may not be able to consider your comment. Electronic files should avoid the use of special characters, any form of encryption, and be free of any defects or viruses. For additional instructions on submitting comments, go to section I of the SUPPLEMENTARY INFORMATION section of this document.

Docket: All documents in the docket are listed in the www.regulations.gov index. Although listed in the index, some information is not publicly available, e.g., CBI or other information whose disclosure is restricted by statute. Certain other material, such as copyrighted material, will be publicly available only in hard copy. Publicly available docket materials are available either electronically in www.regulations.gov or in hard copy at the Environmental Protection Agency, Region 5, Air and Radiation Division, 77 West Jackson Boulevard, Chicago, Illinois 60604. This facility is open from 8:30 a.m. to 4:30 p.m., Monday through Friday, excluding federal holidays. We recommend that you telephone Francisco J. Acevedo, Mobile Source Program Manager, at (312)886-6061 before visiting the Region 5 office.

FOR FURTHER INFORMATION CONTACT: Francisco J. Acevedo, Mobile Source Program Manager, Control Strategies Section, Air Programs Branch (AR-18J), Environmental Protection Agency, Region 5, 77 West Jackson Boulevard, Chicago, Illinois 60604, (312)886-6061, acevedo.francisco@epa.gov.

SUPPLEMENTARY INFORMATION: Throughout this document whenever “we,” “us,” or “our” is used, we mean EPA. This supplementary information section is arranged as follows:

I. What should I consider as I prepare my comments for EPA?

II. Background

III. What changes have been made to the Illinois I/M program?

IV. What is EPA's analysis of the State's submittal?

a. Substantive I/M Requirements

b. Performance Evaluation

c. Demonstrating Noninterference With Attainment and Maintenance Under CAA Section 110(l)

V. What action is EPA proposing to take?

VI. Statutory and Executive Order Reviews

I. What should I consider as I prepare my comments for EPA?

When submitting comments, remember to:

1. Identify the rulemaking by docket number and other identifying information (subject heading, Federal Register date, and page number).

2. Follow directions—EPA may ask you to respond to specific questions or organize comments by referencing a Code of Federal Regulations (CFR) part or section number.

3. Explain why you agree or disagree; suggest alternatives and substitute language for your requested changes.

4. Describe any assumptions and provide any technical information and/or data that you used.

5. If you estimate potential costs or burdens, explain how you arrived at your estimate in sufficient detail to allow for it to be reproduced.

6. Provide specific examples to illustrate your concerns, and suggest alternatives.

7. Explain your views as clearly as possible, avoiding the use of profanity or personal threats.

8. Make sure to submit your comments by the comment period.

II. Background

The general purpose of motor vehicle I/M programs is to reduce emissions from in-use motor vehicles in need of repairs and thereby contribute to state and local efforts to improve air quality and to attain the national ambient air quality standards (NAAQS).

Illinois has operated an enhanced I/M program in both the Chicago and Metro-East St. Louis ozone nonattainment areas since February 1999. The program is presently operating in Cook, DuPage and Lake Counties and portions of McHenry, Kane, Will and Kendall Counties in the Chicago ozone nonattainment area and in portions of Madison, St. Clair and Monroe Counties in the Metro-East St. Louis ozone nonattainment area. The program was authorized by the Illinois Vehicle Emissions Inspection Law (VEIL) of 1995 (625 ILCS 5/13B). EPA fully approved Illinois's enhanced I/M program into the SIP on February 22, 1999, (64 FR 8517) including the program's legal authority and administrative program standards and procedures found in 35 Ill. Adm. Code 240 and 276. Initially, all vehicles were inspected by measuring tailpipe emission levels. As of February 1, 2007, the program dropped tailpipe testing entirely and inspected all vehicles by scanning the on-board diagnostics (OBD) systems. This change was the result of statutory changes outlined in the VEIL of 2005, as amended, 625 ILCS 5/13C.

III. What changes have been made to the Illinois I/M program?

The Illinois I/M SIP revision submitted on November 29, 2012, reflects several changes to the approved program. The most significant changes to the Illinois I/M program took effect beginning on February 2007 and include:

• The elimination of the IM240 transient mode exhaust test for all vehicles beginning February 1, 2007.

• The elimination of the evaporative system integrity (gas cap pressure) test for all OBD compliant vehicles beginning February 1, 2007.

• The replacement of the computer-matching enforcement mechanism with a registration denial based system beginning January 1, 2008.

• The elimination of the steady-state idle exhaust and evaporative integrity (gas cap pressure) testing for all vehicles beginning February 1, 2012.

• The exemption of pre-2007 model year (MY) heavy-duty vehicles (HDVs) with gross vehicle weight rating (GVWR) between 8,501 and 14,000 pounds beginning February 1, 2012.

• The exemption of all HDVs with a GVWR greater than 14,000 pounds as of February 1, 2012.

• The requirement of OBD pass/fail testing for all 2007 and newer OBD-compliant HDVs.

In addition to the changes discussed above, the November 29, 2012, submittal included a number of minor revisions to the program that do not have a significant impact on overall program operations or the emissions reductions associated with it. A full list of the regulatory changes submitted by Illinois for EPA approval includes:

• VEIL of 2005, as amended, 625 ILCS 5/13C (Public Act 94-526 enacted on August 10, 2005; Public Act 94-848 enacted on June 9, 2006; Public Act 97-106, enacted on July 14, 2011).

• Revisions to 35 Ill. Adm. Code 240 (R11-19 effective March 18, 2011 (35 Ill. Reg. 5552 (April 1, 2011)); R12-12 effective February 1, 2012 (36 Ill. Reg. 1066 (January 27, 2012)).

• Revisions to 35 Ill. Adm. Code 276 effective June 28, 2011 (35 Ill. Reg. 11268) and January 30, 2012 (36 Ill. Reg. 2257).

To support the changes outlined above, the revision also included a summary of the MOVES2010a modeling inputs used to calculate program benefits; a demonstration for meeting the modeling requirements for EPA's alternate low enhanced I/M performance standard; and a section 110(l) demonstration that includes offset emission credits. Full copies of the SIP revision are located in EPA's docket.

IV. What is EPA's analysis of the State's submittal?

a. Substantive I/M Requirements

EPA's requirements for basic and enhanced I/M programs are found in 40 CFR part 51, subpart S. The I/M SIP revision submitted by Illinois must be consistent with these requirements and must meet EPA's requirements for enforceability and section 110(l) requirements of the CAA. The most important aspects of I/M affected by the submitted revisions to the Illinois I/M program include network type changes, vehicle coverage and exemptions, test procedures and standards, test equipment, waivers and compliance, and the performance standard evaluation.

1. Network Type and Program Evaluation—40 CFR 51.353

Under 40 CFR 51.353, basic and enhanced I/M programs can be centralized, decentralized, or a hybrid of the two at the state's discretion, but must be demonstrated to achieve the same (or better) level of emission reduction as the applicable performance standard described in either 40 CFR 51.351 or 40 CFR 51.352. The revised Illinois I/M program consists of a hybrid network which includes a combination of centralized test-only stations and decentralized, appointment-only, test and repair stations. Provision and maintenance of all test equipment, operation of data management services, waiver analysis, and inspector training, is handled by the state's contractor, Applus+ Technologies, Inc. All tests, regardless of station type, are conducted using the same test equipment and fraud prevention techniques. Vehicles in the Chicago and Metro-East St. Louis areas required to comply with the I/M program are tested biennially by the contractor at either centralized test-only stations or decentralized test and repair stations. The Illinois I/M program is conducted under the legal authority of the VEIL of 2005. The submittal includes provisions for ongoing program evaluation to satisfy the requirements of 40 CFR 51.353. In addition, the state has committed to submit to EPA annual reports that meet the requirements of 40 CFR 51.353 and 40 CFR 51.366. This part of the submittal continues to meet the requirements of 40 CFR 51.353 of the Federal I/M regulation.

2. Vehicle Coverage—40 CFR 51.356

Under 40 CFR 51.356, the performance standard for enhanced I/M programs (including alternate low enhanced programs) assumes coverage of all MY 1968 and later light duty vehicles (LDVs) and light duty trucks (LDTs) up to 8,500 pounds GVWR, and includes vehicles operating on all fuel types. Subject vehicles include vehicles registered or required to be registered within the I/M program area boundaries, and fleets primarily operated within the I/M program area boundaries and belonging to the covered model years and vehicle classes. Under EPA regulations, other levels of coverage may be approved if the necessary emission reductions are achieved. The Illinois I/M program requires all 1996 and newer MY LDVs, LDTs, and OBD compliant HDVs registered in the Chicago or Metro-East St. Louis ozone nonattainment area to be subject to the OBD inspection. The legal authority to enforce the vehicle coverage requirement in Illinois is provided by the VEIL of 2005. The rules implemented to enforce vehicle coverage are contained in the emissions standards adopted by the Illinois Pollution Control Board (35 Ill. Adm. Code 240), and the procedural rules adopted by IEPA (35 Ill. Adm. Code 276). As described in section IV.b below, EPA concludes that the state has demonstrated that it meets the alternate low enhanced performance standards with the revised program changes. Thus, the changes in vehicle coverage under the revised requirements are acceptable under 40 CFR 51.356.

3. Test Procedures—Standards—40 CFR 51.357

Under 40 CFR 51.357, I/M programs must establish and implement written test procedures and pass/fail standards for each model year and vehicle type. Under the revised requirements, Illinois establishes OBD as the primary testing method and eliminates the previously established idle and transient tailpipe testing methods. In addition, the revised requirements eliminate the evaporative emission test also known as the “gas cap test”, which was previously required but is no longer necessary with OBD technology. The Illinois I/M program submittal contains detailed procedures for connecting to the OBD system, information on readiness codes for OBD tests, and pass/fail standards for OBD equipped vehicles. Updated test procedures are contained in 35 Ill. Adm. Code 276 and applicable emission standards are contained in 35 Ill. Adm. Code 240. This part of the submittal meets the requirements of 40 CFR 51.357 and 40 CFR 51.358 of the Federal I/M regulation.

4. Test Equipment—40 CFR 51.358

Computerized test systems are required for performing any measurement on subject vehicles. The Federal I/M regulation requires that the state SIP submittal include written technical specifications for all test equipment used in the program. The specifications must describe the analysis process, the necessary test equipment, the required features, and written acceptance testing criteria and procedures. As mentioned before, the revised changes repeal references in the requirements relating to idle and transient tailpipe testing methods, including emission equipment specifications and inspection requirements retaining the requirements and specifications for OBD testing. All test stations, whether they are centralized test-only stations, or decentralized test and repair stations, are required to use the same test equipment and data management systems as provided by the contractor.¹ Requirements for the entire test system and vehicle inspection report are contained in the Illinois I/M program contract with Applus+ Technologies, Inc. The Illinois I/M program submittal contains detailed technical specifications for program test equipment that mirror EPA's requirements and guidance. This part of the submittal continues to meet the requirements of 40 CFR 51.358 of the Federal I/M regulation.

¹ The contractor's license plate recognition system is not required at low-volume decentralized test and repair stations.

5. Quality Control—40 CFR 51.359

Section 3.3.3.22 of Illinois I/M program contract with Applus+ Technologies, Inc., as well as 35 Ill. Adm. Code 276, Subpart F, directs IEPA and the contractor to ensure quality and reliability. The results of the ongoing quality assurance program and program evaluations are incorporated into the annual report submitted to EPA under 40 CFR 51.366. This part of the submittal continues to meet the requirements of 40 CFR 51.359 of the Federal I/M regulation.

6. Waivers and Compliance Via Diagnostic Inspection—40 CFR 51.360

The Federal I/M regulation allows for the issuance of a waiver, which is a form of compliance with the program requirements that allows a motorist to comply without meeting the applicable test standards. The waiver requirements for Illinois are specified in 35 Ill. Adm. Code 276, Subpart D. In addition to waivers, the I/M program allows motorists to comply if they meet the requirements for an economic hardship extension, if their vehicle is located outside of the test area, or if the vehicle has complied with another jurisdiction's testing requirement. Legal authority for the issuance of waivers in the Illinois I/M program is contained in the VEIL of 2005. Specifically, Sections 625 ILCS 5/13C-15 and 5/13C-30 provide the criteria that must be met before a vehicle that has failed a vehicle emissions retest can qualify for a waiver, economic hardship extension, outside of affected counties annual exemption, or reciprocity emission compliance certificate. In addition, 35 Ill. Adm. Code 276, Subpart D, provides the procedures to be followed in the issuance of a waiver, economic hardship extension, or outside of affected counties annual exemption. Finally, 35 Ill. Adm. Code 276, Subpart J, provides the requirements for the issuance of an emissions compliance certificate under reciprocity with other states or jurisdictions. This part of the submittal continues to meet the requirements of 40 CFR 51.360.

7. Motorist Compliance Enforcement—40 CFR 51.361 and Motorist Compliance Enforcement Program Oversight—40 CFR 51.362

Under 40 CFR 51.361, compliance must be ensured through the denial of motor vehicle registration in enhanced I/M programs unless an exception for use of an existing alternative is approved. The enforcement mechanism for the Illinois I/M program changed from a computer-matching system to a vehicle registration denial based system on January 1, 2008. Sections 625 ILCS 5/13C-15 and 5/13C-55 of the VEIL of 2005 specifically require that the owner of a vehicle subject to inspection have proof of compliance from IEPA in order to obtain or renew a vehicle registration for a subject vehicle. As part of this process, IEPA and the Illinois Secretary of State maintain a level of motorist enforcement necessary to ensure a compliance rate of no less than 96 percent of subject vehicles. This part of the submittal continues to meet the requirements of 40 CFR 51.361 and 40 CFR 51.362 of the Federal I/M regulation.

b. Performance Evaluation

As part of the November 29, 2012, I/M SIP revision, IEPA provided an updated performance evaluation using the EPA's motor vehicle emissions simulator model, MOVES2010a.² The updated performance evaluation included a summary report outlining the modeling results and full modeling input files, output data files, and run specifications for the MOVES2010a evaluation. The purpose of the updated performance evaluation is to demonstrate that the Illinois I/M program, as amended, would continue to meet the Federal enhanced I/M performance standard in both the Chicago and Metro-East St. Louis ozone nonattainment areas in Illinois. The results of IEPA's analysis are summarized in Tables 1 and 2 below, which show that the emissions reductions achieved by the Illinois I/M program, as amended, meet or exceed those achieved under the performance standards. The amended Illinois I/M program thus continues to achieve greater emissions reductions than the Federal model program because the Illinois I/M program includes elements that go beyond Federal I/M requirements.

² EPA announced the release of MOVES2010 in March 2010 (75 FR 9411). EPA subsequently released two minor model revisions: MOVES2010a in September 2010 and MOVES2010b in April 2012. Both of these minor revisions enhance model performance and do not significantly affect the criteria pollutant emissions results from MOVES2010.

Table 1—Summary of Results of IEPA's Alternative Low Enhanced Performance Modeling for Chicago Nonattainment Area
[Grams per mile]
Program type | VOC ¹ | NOX ²
Alternative Low Enhanced I/M Performance Standard | 0.37 | 1.29
Illinois 2012 I/M Program | 0.37 | 1.24
¹ Volatile organic compound.
² Oxides of nitrogen.

Table 2—Summary of Results of IEPA's Alternative Low Enhanced Performance Modeling for Metro-East St. Louis Nonattainment Area
[Grams per mile]
Program type | VOC | NOX
Alternative Low Enhanced I/M Performance Standard | 0.46 | 1.50
Illinois 2012 I/M Program | ¹ 0.47 | 1.45
¹ Value is within +/−0.02 grams per mile margin for error allowed for by EPA.

Based on our review of the I/M SIP revision, EPA finds IEPA's performance standard evaluation and use of the alternate low enhanced I/M performance standard to be acceptable. EPA also finds that the Illinois I/M program, as amended, meets or exceeds the alternate low enhanced performance standard in both the Chicago and Metro-East St. Louis nonattainment areas as required under 40 CFR 51.351.

c. Demonstrating Noninterference With Attainment and Maintenance Under CAA Section 110(l)

Revisions to SIP-approved control measures must meet the requirements of CAA section 110(l) to be approved by EPA. Section 110(l) states:

The Administrator shall not approve a revision of a plan if the revision would interfere with any applicable requirement concerning attainment and reasonable further progress (as defined in section 171), or any other applicable requirement of this Act.

EPA interprets section 110(l) to apply to all requirements of the CAA and to all areas of the country, whether attainment, nonattainment, unclassifiable, or maintenance for one or more of the six criteria pollutants. EPA also interprets section 110(l) to require a demonstration addressing all pollutants whose emissions and/or ambient concentrations may change as a result of the SIP revision. In the absence of an attainment demonstration, to demonstrate no interference with any applicable NAAQS or requirement of the CAA under section 110(l), EPA believes it is appropriate to allow states to substitute equivalent emissions reductions to compensate for any change to a SIP approved program, as long as actual emissions in the air are not increased. “Equivalent” emissions reductions mean reductions which are equal to or greater than those reductions achieved by the control measure approved in the active portion of the SIP. In order to show that compensating emissions reductions are equivalent, modeling or adequate justification must be provided. The compensating, equivalent reductions must represent actual, new emissions reductions achieved in a contemporaneous time frame to the change of the existing SIP control measure, in order to preserve the status quo level of emission in the air. In addition to being contemporaneous, the equivalent emissions reductions must also be permanent, enforceable, quantifiable, and surplus to be approved into the SIP.

The Illinois I/M SIP revision includes a 110(l) demonstration that uses equivalent emissions reductions to compensate for emission reduction losses resulting from changes to the February 22, 1999, SIP approved I/M program in the Chicago and Metro-East St. Louis ozone nonattainment areas in Illinois. The submittal indicates that IEPA used the latest version of EPA's motor vehicle emissions model program, MOVES2010a, to estimate the emissions effects of the program changes. Based on our review of the information provided, EPA finds that IEPA used reasonable methods and appropriate models in estimating the emissions effects of the program changes. IEPA's MOVES modeling shows that the changes to the Illinois I/M program result in fewer reductions than would have otherwise been obtained from the I/M program originally approved in the SIP by EPA on February 22, 1999. Tables 3 and 4 below summarize IEPA's emissions calculations comparing the revised I/M program to the SIP approved I/M program in units of tons per day (tpd) and highlight the emissions increases that need to be addressed as part of the 110(l) demonstration.

Table 3—SIP I/M Program vs. Revised I/M Program in the Chicago Ozone Nonattainment Area
[tpd]
Year | SIP I/M program: VOC | SIP I/M program: NOX | Revised I/M program: VOC | Revised I/M program: NOX | Emissions increase: VOC | Emissions increase: NOX
2007 | 138.44 | 462.33 | 146.08 | 476.28 | 7.65 | 13.95
2009 | 108.57 | 374.35 | 113.76 | 383.86 | 5.19 | 9.51
2012 | 75.42 | 255.38 | 80.27 | 260.22 | 4.85 | 4.84
2015 | 56.56 | 186.63 | 59.99 | 189.59 | 3.43 | 2.96
2025 | 39.64 | 113.83 | 40.06 | 114.13 | 0.42 | 0.31

Table 4—SIP I/M Program vs. Revised I/M Program in the Metro-East St. Louis Ozone Nonattainment Area
[tpd]
Year | SIP I/M program: VOC | SIP I/M program: NOX | Revised I/M program: VOC | Revised I/M program: NOX | Emissions increase: VOC | Emissions increase: NOX
2007 | 15.94 | 52.65 | 17.03 | 54.74 | 1.09 | 2.09
2009 | 12.76 | 42.20 | 13.59 | 43.69 | 0.83 | 1.49
2012 | 9.86 | 31.15 | 10.80 | 32.25 | 0.94 | 1.09
2015 | 7.62 | 23.20 | 8.36 | 23.98 | 0.75 | 0.78
2025 | 4.91 | 13.29 | 4.95 | 13.31 | 0.05 | 0.02

The revised Illinois I/M program produces fewer reductions of VOC and NOX emissions which are contributors to the formation of ground-level ozone and fine particular matter (PM2.5). Thus, the increase in VOC and NOX needs to be offset with equivalent (or greater) emissions reductions from another control measures in order to demonstrate non-interference with the 8-hour ozone and PM2.5 NAAQS. Although the program also results in fewer reductions of carbon monoxide (CO) emissions, substitute CO emissions reductions are not needed for this demonstration, because both areas in Illinois are attaining the CO NAAQS and CO levels in both areas are well below the standard. IEPA has determined that it is unlikely that the amendments to the Illinois I/M program will interfere with either areas' ability to continue to attain the CO NAAQS.

To address the projected loss of VOC and NOX emission reductions, IEPA reviewed its records of permitted emissions sources in both nonattainment areas in Illinois and identified those sources that have ceased operation since 2002. In the Chicago nonattainment area, IEPA identified 1,168 facilities with permitted VOC emissions and 687 facilities with permitted NOX emissions that have permanently closed and have expired permits that have been revoked. In the Metro-East St. Louis nonattainment area, IEPA identified 82 facilities with permitted VOC emissions and 39 facilities with permitted NOX emissions that have permanently closed and have expired permits that have been revoked. The expiration and revocation of these sources' permits allows the state to use the emission credits associated with them for other purposes under the SIP and makes such reductions permanent and enforceable. IEPA review of emissions from shutdown facilities shows cumulative reductions of 50.32 tpd of VOC and 121.29 tpd of NOX in the Chicago area in 2012 and 1.97 tpd of VOC and 1.74 tpd of NOX in the Metro-East St. Louis area in 2012.

Tables 5 and 6 below compare the increases in VOC and NOX emissions from the revised I/M program to the cumulative reductions in VOC and NOX emissions from facility shutdowns. Table 5 shows that emission offsets for both VOC and NOX exceed the increase in emissions resulting from the revised I/M program in the Chicago nonattainment area from 2007 through 2012. Table 6 shows that emission offsets for VOC exceed the increase in emissions resulting from the revised I/M program in the Metro-East St. Louis nonattainment area from 2007 through 2012. However, in 2007 and 2008, increases in NOX from the revised I/M program exceeded the offsets of NOX from shutdown facilities in the Metro-East St. Louis nonattainment area.

Table 5—NOX and VOC Emissions From Closed Facilities in Chicago Nonattainment Area
[tpd]
Chicago nonattainment area: Year | Chicago nonattainment area: I/M program change emissions increase (VOC) | Chicago nonattainment area: Cumulative facility shutdown emissions reduction (VOC) | Chicago nonattainment area: I/M program change emissions increase (NOX) | Chicago nonattainment area: Cumulative facility shutdown emissions reduction (NOX)
2007 | 7.65 | 33.16 | 13.95 | 100.71
2008 | 6.15 | 39.96 | 11.22 | 109.33
2009 | 5.19 | 45.00 | 9.51 | 117.95
2010 | 4.28 | 48.11 | 7.54 | 120.58
2011 | 3.60 | 49.30 | 6.29 | 121.24
2012 | 4.85 | 50.32 | 4.84 | 121.29

Table 6—NOX and VOC Emissions From Closed Facilities in Metro-East St. Louis Nonattainment Area
[tpd]
Metro-East St. Louis nonattainment area: Year | Metro-East St. Louis nonattainment area: I/M program change emissions increase (VOC | Metro-East St. Louis nonattainment area: Cumulative facility shutdown emissions reduction (VOC) | Metro-East St. Louis nonattainment area: I/M program change emissions increase (NOX) | Metro-East St. Louis nonattainment area: Cumulative facility shutdown emissions reduction (NOX)
2007 | 1.09 | 1.64 | 2.09 | 1.39
2008 | 0.94 | 1.70 | 1.80 | 1.49
2009 | 0.83 | 1.83 | 1.49 | 1.52
2010 | 0.75 | 1.85 | 1.41 | 1.56
2011 | 0.68 | 1.94 | 1.28 | 1.71
2012 | 0.94 | 1.97 | 1.09 | 1.74

EPA policy allows for substitution between VOC and NOX emissions in its guidance on reasonable further progress. This guidance recommends that states assume, as an approximation, that equivalent percent changes in the area's inventory for the respective pollutant yield an equivalent change in ozone levels. For example, decreasing area NOX emissions by 3 percent would have the same effect as decreasing area VOC emissions by 3 percent. Stated another way, if an area has twice as many tons of NOX emissions as VOC emissions, then 2 tons of NOX emissions would be assumed to have the same effect on ozone as 1 ton of VOC emissions. Following this approach, IEPA used a 1 VOC to 2.04 NOX conversion ratio for the Metro-East St. Louis area.

Table 7 below summarizes IEPA's I/M emissions make-up demonstration for the Metro-East St. Louis area and takes into consideration the VOC to NOX substitution approach discussed above. Based on the use of permanent, enforceable, contemporaneous, surplus emissions reductions achieved through the shutdown of permitted emissions sources, EPA believes that the revisions to the Illinois I/M program do not interfere with both areas' ability to demonstrate compliance with the 8-hour ozone and PM2.5 NAAQS.

Table 7—Metro-East St. Louis Area Comparison of NOX Emissions Shortfall to Excess VOC Reductions Applying VOC to NOX Substitution Policy
[tpd]
Year | NOX emissions shortfall | Cumulative facility shutdown excess VOC emissions reductions | Excess VOC emissions using the VOC to NOX emissions ratio (1:2.04)
2007 | 0.70 | 0.55 | 1.12
2008 | 0.31 | 0.76 | 1.55

EPA also examined whether the amendments to the approved I/M program in Illinois have interfered with attainment of other air quality standards. The Illinois I/M program was implemented to address only the ozone NAAQS and EPA has no reason to believe that the amendments to the approved I/M program have caused or will cause the nonattainment of the NAAQS for CO, lead, nitrogen dioxide, or sulfur dioxide. The Metro-East St. Louis area is designated as nonattainment for the PM2.5 NAAQS and as discussed before, NOX is a precursor to PM2.5 formation. However, as demonstrated above, permanent, enforceable, contemporaneous, surplus emissions reductions achieved through the shutdown of permitted VOC and NOX emissions sources have offset the minor increase in NOX emissions resulting from the change to the I/M program. Therefore, the changes to the I/M program do not interfere with attainment of the PM2.5 NAAQS. In addition, EPA believes that the amendments to the approved I/M program in Illinois will not interfere with the ability of the Chicago and Metro-East St. Louis ozone nonattainment areas to meet any other CAA requirement.

Based on the above discussion and the state's 100(l) demonstration, EPA believes that the changes to the Illinois I/M program will not interfere with attainment or maintenance of any of the NAAQS in either the Chicago and Metro-East St. Louis nonattainment areas and would not interfere with any other applicable requirement of the CAA, and thus, are approvable under CAA section 110(l).

V. What action is EPA proposing to take?

EPA is proposing to approve the revisions to the Illinois ozone SIP submitted on November 29, 2012, concerning the I/M program in the Chicago and Metro-East St. Louis ozone nonattainment areas in Illinois. EPA finds that the revisions meet all applicable requirements and will not interfere with reasonable further progress or attainment of any of the NAAQS.

VI. Statutory and Executive Order Reviews

Under the CAA, the Administrator is required to approve a SIP submission that complies with the provisions of the CAA and applicable Federal regulations. 42 U.S.C. 7410(k); 40 CFR 52.02(a). Thus, in reviewing SIP submissions, EPA's role is to approve state choices, provided that they meet the criteria of the CAA. Accordingly, this action merely approves state law as meeting Federal requirements and does not impose additional requirements beyond those imposed by state law. For that reason, this action:

• Is not a “significant regulatory action” subject to review by the Office of Management and Budget under Executive Order 12866 (58 FR 51735, October 4, 1993);

• Does not impose an information collection burden under the provisions of the Paperwork Reduction Act (44 U.S.C. 3501 et seq.);

• Is certified as not having a significant economic impact on a substantial number of small entities under the Regulatory Flexibility Act (5 U.S.C. 601 et seq.);

• Does not contain any unfunded mandate or significantly or uniquely affect small governments, as described in the Unfunded Mandates Reform Act of 1995 (Pub. L. 104-4);

• Does not have Federalism implications as specified in Executive Order 13132 (64 FR 43255, August 10, 1999);

• Is not an economically significant regulatory action based on health or safety risks subject to Executive Order 13045 (62 FR 19885, April 23, 1997);

• Is not a significant regulatory action subject to Executive Order 13211 (66 FR 28355, May 22, 2001);

• Is not subject to requirements of Section 12(d) of the National Technology Transfer and Advancement Act of 1995 (15 U.S.C. 272 note) because application of those requirements would be inconsistent with the CAA; and

• Does not provide EPA with the discretionary authority to address, as appropriate, disproportionate human health or environmental effects, using practicable and legally permissible methods, under Executive Order 12898 (59 FR 7629, February 16, 1994).

In addition, this rule does not have tribal implications as specified by Executive Order 13175 (65 FR 67249, November 9, 2000), because the SIP is not approved to apply in Indian country located in the state, and EPA notes that it will not impose substantial direct costs on tribal governments or preempt tribal law.

List of Subjects in 40 CFR Part 52

Environmental protection, Air pollution control, Incorporation by reference, Intergovernmental relations, Nitrogen oxides, Ozone, Volatile organic compounds.

Dated: November 1, 2013.
Susan Hedman,
Regional Administrator, Region 5.

[FR Doc. 2013-27276 Filed 11-13-13; 8:45 am]

BILLING CODE 6560-50-P